DEPARTMENT OF THE TREASURY

Office of Thrift Supervision

Submission for OMB Review; Comment Request

May 26, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before July 3, 2000.

OMB Number: 1550—0011.

Form Number: Not applicable.

Type of Review: Regular.

Title: General Reporting and Recordkeeping by Savings Associations.

Description: This collection of information allows management of savings associations to exercise prudent controls and to provide OTS with a means of determining the integrity of savings association records and operations when examining for safety, soundness, and regulatory compliance.

Respondents: Savings and Loan Associations and Savings Banks.

Estimated Number of Responses: 1,104.

Estimated Burden Hours Per Response: 3,369 hours.

Frequency of Response: Once per activity.

Estimated Total Reporting Burden: 3,718,911 hours.

Clearance Officer: Mary Rawlings-Milton, (202) 906-6028, Office of Thrift Supervision, 1700 Street, NW., Washington, DC 20552.

OMB Reviewer: Alexander Hunt, (202) 395-7860, Office of Management and Budget, Room 10202, New Executive Office Building, Washington, DC 20503.

John E. Werner,
Director, Information and Management Services.

[FR Doc. 00-13752 Filed 6-1-00; 8:45 am]

BILLING CODE 6720-01-P